DEPARTMENT OF TRANSPORTATION

Office of the Secretary

Notice of Applications for Certificates of Public Convenience and Necessity and Foreign Air Carrier Permits Filed Under Subpart B (Formerly Subpart Q) During the Week Ending March 10, 2012

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0034.

Date Filed: March 6, 2012.

Due Date for Answers, Conforming Applications, or Motion to Modify Scope: March 27, 2012.

Description

Application of Dassault Falcon Service (“DFS”) requesting a foreign air carrier permit to the full extent authorized by the Air Transport Agreement Between the United States and the European Community and the Member states of the European Community to enable it to engage in: (i) Foreign charter air transportation of persons and property from any point or points behind any Member State of the European Union via any point or points in any Member State and via intermediate points to any point or points in the United States and beyond; (ii) foreign charter air transportation of persons and property between any point or points in the United states and any point or points in any member of the European Common Aviation Area; (iii) other charters, (iv) transportation authorized by any additional route rights made available to European Community carrier in the future. DFS further requests exemption authority to the extent necessary to enable it to provide the service described above pending issuance of a foreign air carrier permit and such additional or other relief as the Department may deem necessary or appropriate.

Docket Number: DOT-OST-2009-0351.

Date Filed: March 9, 2012.

Due Date for Answers, Conforming Applications, or Motion To Modify Scope: March 30, 2012.

Description

Application of Premium Jet AG (“Premium Jet”) requesting renewal and amendment of its exemption and for a foreign air carrier permit authorizing Premium Jet to conduct: (i) Foreign charter air transportation of persons, property, and mail from points behind Switzerland via Switzerland and intermediate points to a point or points in the United States and beyond; and (ii) other charters.

Renee V. Wright,
Program Manager, Docket Operations, Federal Register Liaison.

[FR Doc. 2012-8447 Filed 4-6-12; 8:45 am]

BILLING CODE 4910-9X-P